DEPARTMENT OF ENERGY

Request for Information (RFI) Regarding Planning for Establishment of a Program To Support the Availability of High-Assay Low-Enriched Uranium (HALEU) for Civilian Domestic Research, Development, Demonstration, and Commercial Use

AGENCY: Office of Nuclear Energy, Department of Energy.

ACTION: Extension of comment period.

SUMMARY: On December 14, 2021, the U.S Department of Energy (DOE or the Department) issued a RFI inviting input on the planning for establishment of a DOE HALEU Availability Program and to gather information to consider in preparing the required report to Congress describing actions proposed to be carried out by DOE under the program. The Energy Act of 2020 authorized the Department to establish and carry out, through the Office of Nuclear Energy, a program to support the availability of HALEU for civilian domestic research, development, demonstration, and commercial use. The RFI established a January 13, 2022, deadline for the submission of written comments. DOE is extending the comment period to February 14, 2022.

DATES: The comment period for the RFI published on December 14, 2021 (86 FR 71055) is extended. DOE will accept comments, data, and information responding to this RFI submitted on or before February 14, 2022.

ADDRESSES: Interested persons may submit comments by any of the following methods:

1. Email: rfi-haleu@hq.doe.gov. Submit electronic comments in Microsoft Word or PDF file format and avoid the use of special characters or any form of encryption. Please include “Response to RFI” in the subject line.

2. Postal Mail: This option is not available.

3. Hand Delivery/Courier: This option is not available during the COVID-19 pandemic.

4. Online: Responses will be accepted online at www.regulations.gov.

Instructions: All submissions received must include the agency name for this RFI. No facsimiles (faxes) will be accepted. Any information that may be business proprietary and exempt by law from public disclosure should be submitted as described in Section IV of this document.

FOR FURTHER INFORMATION CONTACT: Requests for additional information should be sent to: rfi-haleu@hq.doe.gov or Dr. Daniel Vega, daniel.vega@nuclear.energy.gov, (202) 586-0235, or Michael Reim, michael.reim@nuclear.energy.gov, (202) 586-0509.

Please include “Question on HALEU RFI” in the subject line.

SUPPLEMENTARY INFORMATION: On December 14, 2021, the U.S. Department of Energy (DOE) published a request for information (RFI) in the Federal Register (86 FR 71055). DOE issued this RFI to invite input on the planning for establishment of a DOE HALEU Availability Program and to gather information to consider in preparing the required report to Congress describing actions proposed to be carried out by DOE under the program. The Energy Act of 2020 authorized the Department to establish and carry out, through the Office of Nuclear Energy, a program to support the availability of high-assay low-enriched uranium (HALEU) for civilian domestic research, development, demonstration, and commercial use. A HALEU Availability Program, leading to the deployment and commercialization of clean energy technologies and infrastructure, could secure a critical domestic supply chain for meeting the Administration's climate, economic, and energy security goals. The RFI established a January 13, 2022, deadline for the submission of written comments. DOE has received requests from the public for extension of the public comment period. In response to those requests, DOE is extending the comment period to February 14, 2022, to provide the public additional time for comment.

Signing Authority

This document of the Department of Energy was signed on December 28, 2021, by Andrew Griffith, Deputy Assistant Secretary for Nuclear Fuel Cycle and Supply Chain, Office of Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 30, 2021.
Treena V. Garrett,
Federal Register Liaison Officer, U.S. Department of Energy.

[FR Doc. 2021-28543 Filed 1-6-22; 8:45 am]

BILLING CODE 6450-01-P